DEPARTMENT OF HEALTH AND HUMAN SERVICES

45 CFR Part 153

Standards Related to Reinsurance, Risk Corridors, and Risk Adjustment Under the Affordable Care Act

CFR Correction

In Title 45 of the Code of Federal Regulations, Parts 1 to 199, revised as of October 1, 2014, on page 781, in § 153.210, remove paragraphs (a)(2)(i) through (iii).

[FR Doc. 2015-14262 Filed 6-10-15; 8:45 am]

BILLING CODE 1505-01-D